DEPARTMENT OF ENERGY

Federal Energy Regulatory Commission

Combined Notice of Filings

Take notice that the Commission has received the following Natural Gas Pipeline Rate and Refund Report filings:

Filings Instituting Proceedings

Docket Numbers: RP12-897-000.

Applicants: Northern Natural Gas Company.

Description: 20120731 Mieco Inc Negotiated Rate to be effective 8/1/2012.

Filed Date: 7/31/12.

Accession Number: 20120731-5120.

Comments Due: 5 p.m. ET 8/13/12.

Docket Numbers: RP12-898-000.

Applicants: Trunkline Gas Company, LLC.

Description: Compliance with CP12-5-000 to be effective 9/1/2012.

Filed Date: 7/31/12.

Accession Number: 20120731-5129.

Comments Due: 5 p.m. ET 8/13/12.

Docket Numbers: RP12-899-000.

Applicants: Texas Eastern Transmission, LP.

Description: Atmos to Liberty Utilities Transaction to be effective 8/1/2012.

Filed Date: 7/31/12.

Accession Number: 20120731-5134.

Comments Due: 5 p.m. ET 8/13/12.

Docket Numbers: RP12-900-000.

Applicants: Sea Robin Pipeline Company, LLC.

Description: Compliance with CP12-5-000 to be effective 9/1/2012.

Filed Date: 7/31/12.

Accession Number: 20120731-5136.

Comments Due: 5 p.m. ET 8/13/12.

Docket Numbers: RP12-901-000.

Applicants: CenterPoint Energy—Mississippi River T.

Description: Discount-Type Adjustments for Negotiated Rate Agreements to be effective 9/1/2012.

Filed Date: 7/31/12.

Accession Number: 20120731-5155.

Comments Due: 5 p.m. ET 8/13/12.

Docket Numbers: RP12-902-000.

Applicants: Transcontinental Gas Pipe Line Company.

Description: S-2 Tracker Filing Effective 2012-08-01 to be effective 8/1/2012.

Filed Date: 7/31/12.

Accession Number: 20120731-5162.

Comments Due: 5 p.m. ET 8/13/12.

Docket Numbers: RP12-903-000.

Applicants: Equitrans, L.P.

Description: Equitrans' Tariff Clean-up Filing to be effective 9/1/2012.

Filed Date: 7/31/12.

Accession Number: 20120731-5181.

Comments Due: 5 p.m. ET 8/13/12.

Docket Numbers: RP12-904-000.

Applicants: Trailblazer Pipeline Company LLC.

Description: 2012-07-31 NC Mieco and CIMA to be effective 8/1/2012.

Filed Date: 7/31/12.

Accession Number: 20120731-5211.

Comments Due: 5 p.m. ET 8/13/12.

Docket Numbers: RP12-905-000.

Applicants: Kern River Gas Transmission Company.

Description: 2012 Pooling, Ford City to be effective 9/1/2012.

Filed Date: 7/31/12.

Accession Number: 20120731-5219.

Comments Due: 5 p.m. ET 8/13/12.

Docket Numbers: RP12-906-000.

Applicants: Big Sandy Pipeline, LLC.

Description: Big Sandy Fuel Filing effective 9-1-2012 to be effective 9/1/2012.

Filed Date: 7/31/12.

Accession Number: 20120731-5226.

Comments Due: 5 p.m. ET 8/13/12.

Docket Numbers: RP12-907-000.

Applicants: Empire Pipeline, Inc.

Description: Change in Price Index to be effective 8/1/2012.

Filed Date: 7/31/12.

Accession Number: 20120731-5232.

Comments Due: 5 p.m. ET 8/13/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 1, 2012.
Nathaniel J. Davis, Sr.,
Deputy Secretary.

[FR Doc. 2012-19619 Filed 8-9-12; 8:45 am]

BILLING CODE 6717-01-P